DEPARTMENT OF HEALTH AND HUMAN SERVICES

Administration for Community Living

Announcing the Intent To Award a Single-Source Supplement for the Puerto Rico Disaster Assistance Grant Program

AGENCY: Administration for Community Living, HHS.

ACTION: Notice.

SUMMARY: The Administration for Community Living (ACL) announces the intent to award a single-source supplement to the current cooperative agreement held by the Puerto Rico Ombudsman Office for the Elderly (PROOE) for the project Puerto Rico Disaster Assistance Grant which is through the Older Americans Act, Disaster Assistance for State Units on Aging (SUAs) and Tribal Organizations in Major Disasters Declared by the President and the Consolidated Appropriations Act, 2023.

DATES: The supplement award will be issued to extend the project period to May 1, 2023, through September 30, 2025.

FOR FURTHER INFORMATION CONTACT: Kathleen Votava, U.S. Department of Health and Human Services, Administration for Community Living, Center for Regional Operations: telephone (202) 795-7603; emailkathleen.votava@acl.hhs.gov.

SUPPLEMENTARY INFORMATION: The purpose of this program, as set forth in Section 310(a)(1) of the Older Americans Act (OAA) is to provide funding to the aging network for disaster-related items in areas receiving a Major Disaster Declaration by the President under the Robert T. Relief and Emergency Assistance Act, where funds may only be used in those areas designated in the Disaster Declaration. These funds are used by the aging network in recovery so that they can resume operations to support older adults and their caregivers. The overall goals of the program are as follows:

1. Provide disaster relief reimbursements to States/Territories (or to any tribal organization receiving a grant under title VI), upon application, for funds such State makes available to area agencies on aging (and/or aging network) in such State (or funds used by such tribal organization) for the delivery of supportive services (and related supplies) during any major disaster declared by the President in accordance with the Robert T. Stafford Relief and Emergency Assistance Act. In addition, provide disaster relief reimbursements for expenses related to the consequences of Hurricanes Fiona and Ian.

2. Provide funds for the aging network to deliver the following Older Americans Act (OAA) Title III types of gap-filling services following a disaster: emergency meals and medications, outreach, information and assistance, counseling, case management, advocacy on behalf of older persons unable or reluctant to speak for themselves, and transportation.

3. Assist the aging network in restoring their capacity and operations after a disaster in order that they may be able to help older adults and caregivers in their communities.

The administrative supplement for FY 2024 will be in the amount of $7,809,231, bringing the total awards made in FY 2023 and FY 2024 to $9,779,231. The supplement will provide sufficient resources to enable the grantee, PROOE, and their partners to continue to address the significant needs of Hurricane Fiona older adult survivors living in Puerto Rico and expand the reach and effectiveness of this project by:

• Expanding the grantee's project to restore operations impacted by Hurricane Fiona to additional multipurpose senior centers, including installing solar panels, generators, and cisterns, as well as replenishing the supply of emergency meals for older adults;

• Advancing the capacity of the broader aging services network to deliver services to older adults and their caregivers who were impacted by Hurricane Fiona by continuing to identify and address the most critical needs; and

• Increasing outreach, evaluation, technical assistance, and sub-grantee monitoring and financial oversight activities.

The supplement will accomplish the goals of the program using the following approaches:

• Partnerships are essential for delivering programs and services vital to help older adults remain in their communities. PROOE's partnership with the aging network, including multipurpose senior centers, is critical to allow services and programs to be provided in communities at the local level, especially in recovery from disasters.

• Community-based resources, such as multipurpose senior centers, provide congregate meals, home delivered meals, evidence-based disease prevention and health promotion services, outreach, information and referral services, socialization as well as many other supports for older adults in their local communities. In Puerto Rico, these centers often provide an access point for healthcare, including offering nursing care to and housing medications that need refrigeration for community-dwelling older adults.

• Stewardship is key to any project. The supplement will enable PROOE to increase stewardship over the sub-grant process to manage expanded work and enhance program oversight, monitoring, evaluation, and additional activities proportional to the increased funding and expectations resulting from this supplement.

Program Name: Puerto Rico Disaster Assistance Grant.

Recipient: Puerto Rico Ombudsman Office for the Elderly (PROOE).

Period of Performance: The supplement award will be issued to extend the project period to May 1, 2023, through September 30, 2025.

Total Award Amount: $ 9,779,231.

Award Type: Cooperative Agreement Supplement.

Basis for Award: The Puerto Rico Ombudsman Office for the Elderly (PROOE), the State Unit on Aging (SUA), is currently funded to carry out the objectives of the project entitled Puerto Rico Disaster Assistance Grant for the period of May 1, 2023, through September 30, 2024. Since project implementation began in 2023, the grantee has accomplished a great deal. This supplement will enable the grantee to carry their work even further, serving more older adult survivors of Hurricane Fiona by expanding their project to additional senior centers in local communities. The additional funding will not be used to begin new projects or activities. The PROOE is uniquely positioned to complete the work called for under this project. PROOE is the designated SUA and administers the Older American Act programs and services to support older adults living in the community as well as their caregivers. PROOE's partners include the Territory's network of senior centers and local communities, many of which are in rural areas. Establishing an entirely new grant project at this time would be potentially disruptive to the current work already well under way. More importantly, the older adults being served by this project could be negatively impacted by a disruption, thus posing the risk of re-traumatization and further negative impacts on health and wellbeing in their recovery from Hurricane Fiona. If this supplement is not provided, the project would be less able to address the significant unmet health and social support needs of additional older adult survivors and their caregivers. Similarly, the project would be unable to expand its current reach. Finally, providing this supplement to PROOE will allow for the greater realization of Congress' intent in the Older Americans Act which includes targeting older individuals with greatest economic need (including low- income minority individuals and older individuals residing in rural areas) and older individuals with greatest social need (including low-income minority individuals and older individuals residing in rural areas) to receive services under this Act, as well as targeting of services to older adult individuals at risk for institutional placement to permit such individuals to remain in home and community-based settings.

Statutory Authority: 42 U.S.C. 3030; Pub. L. 117-328, 136 Stat. 4459.

Dated: April 29, 2024.
Allison Barkoff,
Principal Deputy Administrator for the Administration for Community Living, performing the delegable duties of the Administrator and the Assistant Secretary for Aging.

[FR Doc. 2024-09542 Filed 5-1-24; 8:45 am]

BILLING CODE 4154-01-P